FEDERAL COMMUNICATIONS COMMISSION

Public Safety and Homeland Security Bureau; Federal Advisory Committee Act; Emergency Response Interoperability Center Public Safety Advisory Committee Meeting

AGENCY: Federal Communications Commission.

ACTION: Notice of public meeting.

SUMMARY: In accordance with the Federal Advisory Committee Act, this document advises interested persons that the FCC Emergency Response Interoperability Center Public Safety Advisory Committee (PSAC) will hold its second meeting on May 24, 2011, at 10 a.m. in the Commission Meeting Room of the Federal Communications Commission.

DATES: May 24, 2011.

ADDRESSES: Federal Communications Commission, Room TW-C305 (Commission Meeting Room), 445 12th Street, SW., Washington, DC 20554.

FOR FURTHER INFORMATION CONTACT: Gene Fullano, Designated Federal Official for PSAC at (202) 418-0492 (voice) or genaro.fullano@fcc.gov (e-mail); or Brian Hurley, Deputy Designated Federal Official for PSAC at (202) 418-2220 (voice) or brian.hurley@fcc.gov (e-mail).

SUPPLEMENTARY INFORMATION: The PSAC is a Federal Advisory Committee that will provide recommendations to assist the Commission and the Emergency Response Interoperability Center (ERIC) in developing a technical interoperability framework for a nationwide interoperable public safety broadband network. On August 6, 2010, the FCC, pursuant to the Federal Advisory Committee Act, filed the charter for the PSAC for a period of two years, through August 6, 2012.

At this meeting, the PSAC will consider recommendations of its Interoperability, Applications and User Requirements, Security and Authentication, and Network Evolution working groups. A more detailed agenda will be released prior to the meeting.

Members of the general public may attend the meeting, and the FCC will attempt to accommodate as many attendees as possible; however, admittance will be limited to seating availability. The Commission will also provide audio and/or video coverage of the meeting over the Internet from the FCC's Web page at http://www.fcc.gov/live.

Open captioning will be provided for this event. Other reasonable accommodations for people with disabilities are available upon request. Requests for such accommodations should be submitted via e-mail to fcc504@fcc.gov or by calling the Consumer & Governmental Affairs Bureau at (202) 418-0530 (voice), (202) 418-0432 (TTY). Such requests should include a detailed description of the accommodation needed. In addition, please include a way the FCC can contact the requester if more information is needed to fill the request. Please allow at least five days' advance notice; last minute requests will be accepted but may not be possible to accommodate.

The public may submit written comments before the meeting to Gene Fullano, the FCC's Designated Federal Official for the PSAC, by e-mail to genaro.fullano@fcc.gov or U.S. Postal Service Mail to Gene Fullano, Associate Chief, Public Safety and Homeland Security Bureau, Federal Communications Commission, 445 12th Street, SW., Room 7-C738, Washington, DC 20554.

Federal Communications Commission.
Jennifer A. Manner,
Deputy Chief.

[FR Doc. 2011-10298 Filed 4-27-11; 8:45 am]

BILLING CODE 6712-01-P